DEPARTMENT OF ENERGY

Federal Energy Regulatory Commission

[Docket No. CP02-60-000]

CMS Trunkline LNG Company, LLC.; Notice of Intent To Prepare an Environmental Assessment for the Proposed Trunkline LNG Expansion Project, Request for Comments on Environmental Issues, and Notice of Public Meeting

February 13, 2002.

The staff of the Federal Energy Regulatory Commission (FERC or Commission) will prepare an environmental assessment (EA) that will discuss the environmental impacts of CMS Trunkline LNG Company, LLC's (Trunkline LNG) Expansion Project involving construction and operation of facilities in Calcasieu Parish, Louisiana.¹ The project involves expanding the storage and sendout capacity of Trunkline LNG's existing, certificated liquefied natural gas (LNG) marine import terminal. This EA will be used by the Commission in its decision-making process to determine whether the project is in the public convenience and necessity.

¹ Trunkline LNG's application was filed with the Commission under Section 7 of the Natural Gas Act and Part 157 of the Commission's regulations.

Summary of the Proposed Project

Trunkline LNG proposes: (1) To expand the LNG storage capacity; (2) to increase the sustainable daily sendout capability to 1,200 million cubic feet per day (MMcfd) and its peaking capacity to 1,300 MMcfd; and (3) to accommodate two LNG tankers at one time. Trunkline LNG seeks authorization to construct and operate the following new facilities at its existing site:

• LNG ship unloading facility with three liquid unloading arms, one vapor return/delivery arm, mooring and breasting dolphins, fendering system, and support trestles;

• One 880,000 barrel (2.9 billion cubic feet of gas equivalent) double-wall LNG storage tank with spill containment dike;

• Three 360 MMcfd first stage LNG pumps;

• Four 192 MMcfd second stage LNG pumps with a recondenser vessel;

• Three 150 MMcfd submerged combustion vaporizers;

• One desuperheater;

• High expansion foam building;

• Electrical building;

• One cryogenic fuel gas/ship vapor return compressor;

• Two 22 megawatt combustion turbine electric generators capable of handling the sendout volume and the unloading of two ships simultaneously; and

• Associated civil, mechanical, electrical, control, and hazard detection systems.

In a related application filed under Docket No. CP02-55-000, CMS Trunkline Gas Company, LLC (Trunkline Gas) seeks authorization to modify its metering facilities under Section 7(c) of the Natural Gas Act and Part 157 of the Commission's regulations. Trunkline Gas would replace two 16-inch-diameter orifice meter runs with two 16-inch-diameter ultrasonic meter runs and associated facilities. The remaining three 16-inch-diameter orifice meter runs would remain in place.

Land Requirements for Construction

The Trunkline LNG terminal occupies about 125 fenced acres on the Calcasieu Ship Channel. Through ownership and leases, Trunkline LNG has control of 395 acres. The proposed facilities would occupy about 8.8 acres of land within the developed site and 1.2 acres of water within the existing turning basin. Contractor staging and storage would temporarily affect an additional 35.3 acres of land within the developed site and 0.2 acre of water within the existing turning basin.

The EA Process

The National Environmental Policy Act (NEPA) requires the Commission to take into account the environmental impacts that could result from an action whenever it considers the issuance of a Certificate of Public Convenience and Necessity. NEPA also requires us to discover and address concerns the public may have about proposals. We call this “scoping”.² The main goal of the scoping process is to focus the analysis in the EA on the important environmental issues. By this Notice of Intent, the Commission requests public comments on the scope of the issues it will address in the EA. All comments received are considered during the preparation of the EA. State and local government representatives are encouraged to notify their constituents of this proposed action and encourage them to comment on their areas of concern.

² “We”, “us”, and “our” refer to the environmental staff of the Office of Energy Projects (OEP).

The EA will discuss impacts that could occur as a result of the construction and operation of the proposed project under these general headings:

• Geology and soils

• Water resources, fisheries, and wetlands

• Vegetation and wildlife

• Air quality and noise

• Land use

• Cultural resources

• Endangered and threatened species

• Public safety

We will also evaluate possible alternatives to the proposed project or portions of the project, and make recommendations on how to lessen or avoid impacts on the various resource areas.

Our independent analysis of the issues will be presented in the EA. Depending on the comments received during the scoping process, the EA may be published and mailed to Federal, state, and local agencies, public interest groups, interested individuals, affected landowners, newspapers, libraries, and the Commission's official service list for this proceeding. A comment period will be allotted for review if the EA is published. We will consider all comments on the EA before we make our recommendations to the Commission.

To ensure your comments are considered, please carefully follow the instructions in the public participation section beginning on page 4.

Currently Identified Environmental Issues

We have already identified several environmental issues that we think deserve attention based on a preliminary review of the proposed facilities and the environmental information provided by Trunkline LNG. This preliminary list of issues may be changed based on your comments and our analysis.

• Up to 175 LNG tankers per year would transit the Calcasieu Ship Channel to the terminal by the year 2006.

• Environmental and technical issues associated with the construction and operation of: a LNG ship unloading facility; a 880,000 barrel LNG storage tank; and the expansion of the terminal's sendout capacity.

Public Participation

You can make a difference by providing us with your specific comments or concerns about the project. By becoming a commentor, your concerns will be addressed in the EA and considered by the Commission. You should focus on the potential environmental effects of the proposal, alternatives to the proposal, and measures to avoid or lessen environmental impact. The more specific your comments, the more useful they will be. Please carefully follow these instructions to ensure that your comments are received in time and properly recorded:

• Send an original and two copies of your letter to: Magalie R. Salas, Secretary, Federal Energy Regulatory Commission, 888 First St., NE., Room 1A, Washington, DC 20426.

• Label one copy of the comments for the attention of the Gas 1, PJ-11.1.

• Reference Docket No. CP02-60-000.

• Mail your comments so that they will be received in Washington, DC on or before March 15, 2002.

Comments may also be filed electronically via the Internet in lieu of paper. See 18 CFR 385.2001(a)(1)(iii) and the instructions on the Commission's web site at http://www.ferc.gov under the “e-Filing” link and the link to the User's Guide. Before you can file comments you will need to create an account which can be created by clicking on “Login to File” and then “New User Account.” Due to current events, we cannot guarantee that we will receive mail on a timely basis from the U.S. Postal Service, and we do not know how long this situation will continue. However, we continue to receive filings from private mail delivery services, including messenger services, in a reliable manner. The Commission encourages electronic filing of any comments or interventions or protests to this proceeding. We will include all comments that we receive within a reasonable time frame in our environmental analysis of this project.

Public Scoping Meeting and Site Visit

In addition to asking for written comments, we invite you to attend a public scoping meeting that we will conduct in the project area. The purpose of the scoping meeting is to provide state and local agencies, interested groups, affected landowners, and the general public with an opportunity to learn more about the project and another chance to present us with environmental issues or concerns they believe should be addressed in the EA. A transcript of the meeting will be made so that your comments will be accurately recorded. The location and time is listed below:

March 6, 2002, 7:00 pm, The Chamber—Southwest Louisiana, Ground Floor Meeting Room, 120 West Pujo Street, Lake Charles, LA.

The purpose of the scoping meeting is limited to environmental issues only. Technical meetings associated with the engineering and cryogenic design of the facility may be conducted at a later date.

Becoming an Intervenor

In addition to involvement in the EA scoping process, you may want to become an official party to the proceeding known as an “intervenor”. Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to rule 214 of the Commission's rules of practice and procedure (18 CFR 385.214) (see appendix).³ Only intervenors have the right to seek rehearing of the Commission's decision.

³ Interventions may also be filed electronically via the Internet in lieu of paper. See the previous discussion on filing comments electronically. The appendix referenced in this notice are not being printed in the Federal Register. Copies are available on the Commission's website at the “RIMS” link or from the Commission's Public Reference and Files Maintenance Branch, 888 First Street, NE., Washington, DC 20426, or call (202) 208-1371. For instructions on connecting to RIMS refer to the last page of this notice. Copies of the appendix were sent to all those receiving this notice in the mail.

Affected landowners and parties with environmental concerns may be granted intervenor status upon showing good cause by stating that they have a clear and direct interest in this proceeding which would not be adequately represented by any other parties. You do not need intervenor status to have your environmental comments considered.

Additional information about the proposed project is available from the Commission's Office of External Affairs at (202) 208-1088 or on the FERC website (www.ferc.gov) using the “RIMS” link to information in this docket number. Click on the “RIMS” link, select “Docket #” from the RIMS Menu, and follow the instructions. For assistance with access to RIMS, the RIMS helpline can be reached at (202) 208-2222.

Similarly, the “CIPS” link on the FERC Internet website provides access to the texts of formal documents issued by the Commission, such as orders, notices, and rulemakings. From the FERC Internet website, click on the “CIPS” link, select “Docket #” from the CIPS menu, and follow the instructions. For assistance with access to CIPS, the CIPS helpline can be reached at (202) 208-2474.

Linwood A. Watson, Jr.,
Deputy Secretary.

[FR Doc. 02-4033 Filed 2-19-02; 8:45 am]

BILLING CODE 6717-01-P